AGENCY FOR INTERNATIONAL DEVELOPMENT

Notice of Meeting; Board for International Food and Agricultural Development

AGENCY: Agency for International Development.

ACTION: Notice of meeting; request for public comment.

SUMMARY: Pursuant to the Federal Advisory Committee Act, notice is hereby given of a public meeting of the Board for International Food and Agricultural Development (BIFAD), Fed to Thrive: Accelerating Action on Nourishing Foods for Infants and Young Children. The public meeting is a side event of the 2022 Borlaug Dialogue at the World Food Prize under the theme “Feeding a Fragile World”. The meeting will convene expert presenters and seek public input on evidence-based solutions for increasing the affordability, availability, and convenience of nutrient-dense foods for infants and children under two years of age, providing adequate safety nets for families most vulnerable to early childhood malnutrition.

DATES: The meeting will be on October 19, 2022 from 7 a.m. to 8:45 a.m. Central Time.

ADDRESSES: The meeting will be held at the Iowa Event Center, 730 3rd Street, Des Moines, Iowa 50309. Members of the public are invited to join in person at the venue (room details will be shared after registration). The link to register to attend in person at the Iowa Event Center is: https://bit.ly/3UfEJTi.

The meeting will also be live streamed via ZOOM for virtual public participation. The link to register to participate virtually is: https://bit.ly/BIFADWFP22.

SUPPLEMENTARY INFORMATION: Today, nearly two in three children ages six months to two years are not consuming nutritionally adequate diets critical to growth and development. Although 9.2 percent of the global population lives below the international poverty line of $1.90 per day, the average least-cost, nutrient-adequate diet for one child in a low-income country is $1-2 per day at 6 to 8 months, $1 per day at 9 to 11 months, and above $1 per day at one year and older. Simply put, families are struggling to afford safe and nutritious food for their young children, with devastating, irreversible consequences for child survival and cognitive and physical growth. Sub-country-level data indicate that early childhood malnutrition does not impact all families, socio-economic groups, communities, or regions equally, with measurable inequalities experienced by the poor in access and consumption of important sources of nutrition—including animal-source foods and nutrient-dense vegetables—during complementary-feeding stages.

Presentations and discussion will focus on the questions: (1) What does a nutritionally balanced food basket for infants and young children look like, and what would it cost? (2) What are evidence-based priority actions to reduce the costs of balanced food baskets, improve nutrient content and safety, incentivize use by improving convenience and enabling caregivers, and provide financial means for the most vulnerable to access them through safety nets? (3) How do we achieve coordinated, gender-transformative change across the food, health, and social protection systems in both development and humanitarian settings? Drawing from testimony by global experts and practitioners, BIFAD will advise the U.S. Agency for International Development (USAID) on recommended policy and program actions. The meeting will include a public comment period from 8:25 to 8:40 a.m. Central Time.

The BIFAD is a seven-member, presidentially appointed advisory board to USAID established in 1975 under Title XII of the Foreign Assistance Act, as amended, to ensure that USAID brings the assets of U.S. universities to bear on development challenges in agriculture and food security and supports their representation in USAID programming.

For questions about registration, please contact Carol Chan at carol.chan@tetratech.com.

For questions about BIFAD, or to submit written comments, evidence, or materials in advance or following the meeting, please contact Clara Cohen, Designated Federal Officer for BIFAD in the Bureau for Resilience and Food Security at USAID. Interested persons may email her at ccohen@usaid.gov (Subject: Comment for 186th BIFAD Public Meeting) or telephone her at (202) 712-0119.

Clara Cohen,
Designated Federal Officer, BIFAD.

[FR Doc. 2022-20518 Filed 9-21-22; 8:45 am]

BILLING CODE 6116-01-P